FEDERAL MARITIME COMMISSION

Ocean Transportation Intermediary License Applicants

Notice is hereby given that the following applicants have filed with the Federal Maritime Commission an application for license as a Non-Vessel—Operating Common Carrier and Ocean Freight Forwarder—Ocean Transportation Intermediary pursuant to section 19 of the Shipping Act of 1984 as amended (46 U.S.C. app. 1718 and 46 CFR part 515).

Persons knowing of any reason why the following applicants should not receive a license are requested to contact the Office of Transportation Intermediaries, Federal Maritime Commission, Washington, DC 20573.

Non-Vessel-Operating Common Carrier Ocean Transportation Intermediary Applicants

Sobe Enterprises, Inc. dba Sobe Export Services, 732 N.W. 107th Street, Miami, FL 33168. Officers: Claude Sterling, President (Qualifying Individual), David Desrouleaux, Vice President.

Intermodal Container Logistics, LLC, 137 North Oak Park Ave., Suite 302, Oak Park, IL 60301. Officers: Stephen D. Hossa, President (Qualifying Individual).

Im-Ex Global, Inc., 3901 Coyote Circle, Clayton, CA 94517. Officers: Byoung Seon Kim, Vice President (Qualifying Individual), Vivian Y. Yoon, President.

Ocean Freight Forwarder—Ocean Transportation Intermediary Applicant

Empire Shipping Company, Inc., 82-84 Vanderpool Street, Newark, NJ 07114. Officers: Alex OseT-Kwame, President (Qualifying Individual), Kofi Agyeman, Vice President.

Dated: May 26, 2006.
Bryant L. VanBrakle,
Secretary.

[FR Doc. E6-8503 Filed 5-31-06; 8:45 am]

BILLING CODE 6730-01-P